ENVIRONMENTAL PROTECTION AGENCY

[EPA-HQ-OW-2023-0287; FRL-12303-01-OMS]

Agency Information Collection Activities; Submission to the Office of Management and Budget for Review and Approval; Comment Request; Textile Mills Industry Data Collection (New)

AGENCY: Environmental Protection Agency (EPA).

ACTION: Notice.

SUMMARY: The Environmental Protection Agency (EPA) has submitted an information collection request (ICR), Textile Mills Industry Data Collection (EPA ICR Number 2798.01, OMB Control Number 2040-NEW) to the Office of Management and Budget (OMB) for review and approval in accordance with the Paperwork Reduction Act. This is a request for approval of a new collection. Public comments were previously requested via the Federal Register on November 28, 2023 during a 60-day comment period. This notice allows for an additional 30 days for public comments.

DATES: Comments must be submitted on or before October 30, 2024.

ADDRESSES: Submit your comments, referencing Docket ID Number EPA-HQ-OW-2023-0287, to EPA online using www.regulations.gov (our preferred method), by email to OW-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Paul Schriner, Engineering and Analysis Division, mail code 4301M, Environmental Protection Agency, 1200 Pennsylvania Ave. NW, Washington, DC 20460; telephone number: 101-566-1076; email address: oira_submission@omb.eop.gov.

SUPPLEMENTARY INFORMATION: This is a request for approval of a new collection. An agency may not conduct or sponsor and a person is not required to respond to a collection of information unless it displays a currently valid OMB control number.

Public comments were previously requested via the Federal Register on November 28, 2023 during a 60-day comment period (88 FR 83125). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Under the Clean Water Act (CWA), the EPA develops effluent limitations guidelines (ELGs) to limit pollutants discharged from industrial point source categories. The EPA initially promulgated the Textiles Mills ELGs in 1974 (39 FR 24736, July 5, 1974) and amended the regulations in 1977 (42 FR 26979, May 26, 1977) and 1982 (47 FR 38810, September 2, 1982). Textiles mills receive and prepare fibers, transforming these materials into yarn, thread or webbing. Other mills convert yarns and webbing into fabric or related products and finish these materials. Many textile mills produce a final consumer product such as thread, yarn, fabric, hosiery, sheets, towels, and carpet. The current regulation covers wastewater discharges from textile mills which perform one or more of the following operations and discharge process wastewater directly to surface waters or indirectly to surface waters through publicly owned treatment works (POTWs): wool scouring, wool finishing, yarn and unfinished fabric manufacturing, woven fabric finishing, knit fabric finishing, carpet finishing, and nonwoven textile products of wool, cotton, synthetics, or blends of such fabrics.

As announced in the Effluent Guidelines Program Plan 15 (88 FR 6258, January 31, 2023), the EPA is continuing to evaluate the available data on types and concentrations of PFAS in wastewater discharged from textile mills. A questionnaire for the textile mills industry is necessary for the EPA to determine if the current regulations remain appropriate and, if warranted, to develop and propose new regulations. If new regulations are deemed to be warranted, the questionnaire is essential for the EPA to complete the detailed technical analysis necessary for the rulemaking. The EPA has identified and compiled mailing addresses for approximately 2,200 textile manufacturing facilities in the United States. A subsequent wastewater sampling program will require a subset of approximately 20 textile manufacturing facilities that completed the questionnaire to also collect wastewater samples and submit them to an EPA-contracted laboratory. Wastewater sampling data are critical for characterizing the wastewater generated and discharged by textile manufacturing facilities, as well as evaluating the effectiveness of pollution control practices and technologies to reduce or eliminate PFAS in discharges. Additional objectives of the questionnaire and sampling will be to confirm the current population of textile mills, estimate the volume of wastewater discharged from the industry, confirm which mills still use PFAS in their processes, and gather facility-specific information and data relevant to generation and discharge of PFAS-containing wastewater by the industry.

Form Numbers: None.

Respondents/affected entities: Up to 2,243 textile mills in the U.S. will receive the questionnaire and no more than 20 facilities will be asked to conduct specific wastewater sampling.

Respondent's obligation to respond: Mandatory (Clean Water Act section 308).

Estimated number of respondents: 2,243 (total).

Frequency of response: One-time data collection.

Total estimated burden: 22,863 hours. Burden is defined at 5 CFR 1320.03(b).

Total estimated cost: $1,615,788 (per year), which includes $10,576 annualized capital or operation & maintenance costs.

Changes in the estimates: This is a new data collection request and is a one-time temporary increase to the Agency's burden.

Courtney Kerwin,
Director, Information Engagement Division.

[FR Doc. 2024-22295 Filed 9-27-24; 8:45 am]

BILLING CODE 6560-50-P